DEPARTMENT OF COMMERCE

National Oceanic and Atmospheric Administration (NOAA)

Science Advisory Board (SAB)

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Thursday April 28 from 9:45 a.m. EDT to 5:45 p.m. EDT and on Friday April 29, from 9:00 a.m. EDT to 1:00 p.m. EDT. These times and the agenda topics described below are subject to change. Please refer to the Web page http://www.sab.noaa.gov/Meetings/meetings.html for the most up-to-date meeting times and agenda.

Place: The meeting will be held at Sheraton Silver Spring Magnolia Ballroom, 8777 Georgia Avenue, Silver Spring, Maryland. Please check the SAB Web site http://www.sab.noaa.gov/Meetings/meetings.html for directions to the meeting location.

Status: The meeting will be open to public participation with a 15-minute public comment period on April 28 from 5:30-5:45 p.m. EDT (check Web site to confirm time). The SAB expects that public statements presented at its meetings will not be repetitive of previously submitted verbal or written statements. In general, each individual or group making a verbal presentation will be limited to a total time of two (2) minutes. Individuals or groups planning to make a verbal presentation should contact the SAB Acting Executive Director by April 21, 2016 to schedule their presentation. Written comments should be received in the SAB Executive Director's Office by April 21, 2016, to provide sufficient time for SAB review. Written comments received by the SAB Executive Director after April 21, 2016, will be distributed to the SAB, but may not be reviewed prior to the meeting date. Seating at the meeting will be available on a first-come, first-served basis.

Special Accommodations: These meetings are physically accessible to people with disabilities. Requests for special accommodations may be directed no later than 12:00 p.m. on April 21, 2016, to Dr. Elizabeth Turner, Acting SAB Executive Director, Room 146, Gregg Hall, 35 Colovos Road, Durham, NH 03824; Email: Elizabeth.Turner@noaa.gov.

Matters To Be Considered: The meeting will include the following topics: (1) Report on Ecosystem Services Valuation from the Ecosystem Sciences and Management Working Group; (2) Updates from the NOAA Administrator, Chief Scientist and the Chief Economist; (3)SAB Strategy Discussion and Implications for NOAA; and (4) Discussion of Working Group Issues and Working Group Concept of Operations.

FOR FURTHER INFORMATION CONTACT: Dr. Elizabeth Turner, Acting Executive Director, Science Advisory Board, NOAA, Room 146 Gregg Hall, 35 Colovos Road, Durham, NH 03824. Email: Elizabeth.Turner@noaa.gov; or visit the NOAA SAB Web site at http://www.sab.noaa.gov.

Dated: March 15, 2016.
Jason Donaldson,
Chief Financial Officer, Office of Oceanic and Atmospheric Research, National Oceanic and Atmospheric Administration.

[FR Doc. 2016-06554 Filed 3-24-16; 8:45 am]

BILLING CODE 3510-KD-P